DEPARTMENT OF ENERGY

Federal Energy Regulatory Commission

[Docket Nos. EL00-95-034 and EL00-98-033]

San Diego Gas & Electric Company, Complainant, v. Sellers of Energy and Ancillary Services Into Markets Operated by the California Independent System Operator and the California Power Exchange, Respondents, et al.; Notice of Filing

May 15, 2001.

Take notice that on May 11, 2001, the California Independent System Operator Corporation (ISO) tendered a filing in compliance with the Commission's April 26, 2001, Order in the above-captioned dockets.

The ISO states that this filing has been served on the California Public Utilities Commission, on all parties on the official service lists maintained by the Secretary for Docket Nos. EL00-95-000, et al., and on all entities that have entered into Participating Generator Agreements with the ISO.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protest should be filed on or before May 22, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12683 Filed 5-18-01; 8:45 am]

BILLING CODE 6717-01-M